DEPARTMENT OF ENERGY

Federal Energy Regulatory Commission

[Docket No. CP01-391-001]

Clear Creek Storage Company, L.L.C.; Notice of Amendment

October 31, 2001.

Take notice that on October 26, 2001, Clear Creek Storage Company, L.L.C. (Clear Creek), 180 East 100 South, Salt Lake City, Utah 84111, filed an amendment to its pending application filed on June 22, 2001, in Docket No. CP01-391-000, pursuant to section 7(c) of the Natural Gas Act (NGA), to reflect that it no longer requests authorization to (1) Construct 1,000 feet of 4-inch diameter, buried pipeline to connect observation Well No. 22-9B to the existing injection/withdrawal lateral extending from the authorized injection/withdrawal Well No. 44-4B to the central processing facilities; (2) convert Well No. 22-9B from an observation well to a withdrawal well and utilize this well for withdrawal of natural gas from the storage reservoir; and, (3) operate the proposed facilities and Well No. 22-9B to meet storage service commitments to customers, all as more fully set forth in the amendment which is on file with the Commission and open to public inspection. This filing may also be viewed on the web at http://www.ferc.gov using the “RIMS” link, select “Docket#” and follow the instructions (call 202-208-2222 for assistance).

Clear Creek states that recent storage reservoir analyses of the past year's performance indicate that withdrawals from the reservoir necessary to meet authorized storage service commitments to customers can be accomplished by the use of the existing Well No. 44-4B and the proposed withdrawal Well No. 35-4B.

Clear Creek, by this amendment, reiterates its original request that the Commission issue a certificate of public convenience and necessity authorizing Clear Creek to (1) Construct 336 feet of 4-inch diameter, buried pipeline to connect observation Well No. 35-4B to the existing injection/withdrawal lateral extending from the authorized injection/withdrawal Well No. 44-4B to the central processing facilities; (2) convert Well No. 35-4B from an observation well to a withdrawal well and utilize this well for withdrawal of natural gas from the storage reservoir; and, (3) operate the above pipeline facilities and withdrawal well to meet authorized storage service commitments to customers. Clear Creek states that the revised cost of the proposed project is estimated to be $52,700.

Any questions regarding the amendment should be directed to Michael B. McGinley, Vice President, Clear Creek Storage Company, L.L.C., 180 East 100 South, P.O. Box 45601, Salt Lake City, Utah 84111, at (804) 324-2527.

There are two ways to become involved in the Commission's review of this project. First, any person wishing to obtain legal status by becoming a party to the proceedings for this project should, on or before November 12, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the amendment for a formal hearing before an Administrative Law Judge, the Commission will issue another notice describing that process. At the end of the Commission's review process, a final Commission order approving or denying a certificate will be issued.

All persons who have heretofore filed need not file again.

David P. Boergers,
Secretary.

[FR Doc. 01-27765 Filed 11-5-01; 8:45 am]

BILLING CODE 6717-01-P